DEPARTMENT OF ENERGY

Federal Energy Regulatory Commission

[Docket No. ER01-1340-001, et al.]

Black Hills Corporation, et al., Electric Rate and Corporate Regulation Filings

March 22, 2001.

Take notice that the following filings have been made with the Commission:

1. Black Hills Corporation, n/k/a Black Hills Power, Inc.

[Docket No. ER01-1340-001]

Take notice that on March 16, 2001, Black Hills Corporation, n/k/a Black Hills Power, Inc., tendered for filing a redesignated individual long-term service agreement with Public Service Company of Colorado under Black Hills' Market-Based Rate Wholesale Power Sales Tariff, FERC Electric Tariff, Original Vol. No. 3.

Comment date: April 6, 2001, in accordance with Standard Paragraph E at the end of this notice.

2. The Detroit Edison Company DTE Energy Trading, Inc.

[Docket No. ER01-1572-000]

Take notice that on March 19, 2001, The Detroit Edison Company (Detroit Edison) and DTE Energy Trading, Inc. filed an application requesting modification of the Code of Conduct, modification of Detroit Edison's market-based wholesale power tariff, FERC Electric Tariff, Original Volume No. 3, and acceptance of Detroit Edison and DTE Energy Trading, Inc. service agreements.

A copy of the application has been served upon the Michigan Public Service Commission.

Comment date: April 9, 2001, in accordance with Standard Paragraph E at the end of this notice.

3. Northeast Utilities Service Company

[Docket No. ER01-1573-000]

Take notice that on March 19, 2001, Northeast Utilities Service Company (NUSCO), tendered for filing, a Service Agreement to provide Network Integration Transmission Service to the Ashland Municipal Electric Department under the NU System Companies' Open Access Transmission Service Tariff No. 9.

NUSCO states that a copy of this filing has been mailed to the Ashland Municipal Electric Department.

NUSCO requests that the Service Agreement become effective April 1, 2001.

Comment date: April 9, 2001, in accordance with Standard Paragraph E at the end of this notice.

4. Northeast Utilities Service Company

[Docket No. ER01-1574-000]

Take notice that on March 19, 2001, Northeast Utilities Service Company (NUSCO), tendered for filing, a Service Agreement to provide Network Integration Transmission Service to the New Hampton Village Precinct under the NU System Companies' Open Access Transmission Service Tariff No. 9.

NUSCO states that a copy of this filing has been mailed to the New Hampton Village Precinct.

NUSCO requests that the Service Agreement become effective April 1, 2001.

Comment date: April 9, 2001, in accordance with Standard Paragraph E at the end of this notice.

5. PECO Energy Company

[Docket No. ER01-1575-000]

Take notice that on March 19, 2001, PECO Energy Company (PECO) filed under Section 205 of the Federal Power Act, 16 U.S.C. S 792 et seq., an Agreement dated March 16, 2001 with Minnesota Municipal Power Authority (MMPA) under PECO's FERC Electric Tariff Original Volume No. 1 (Tariff).

PECO requests an effective date of March 16, 2001, for the Agreement.

PECO states that copies of this filing have been supplied to Minnesota Municipal Power Agency and to the Pennsylvania Public Utility Commission.

Comment date: April 9, 2001, in accordance with Standard Paragraph E at the end of this notice.

6. Alliant Energy Corporate Services, Inc.

[Docket No. ER01-1576-000]

Take notice that on March 19, 2001, Alliant Energy Corporate Services, Inc. tendered for filing executed Service Agreements with Alliant Energy Corporate Services, Inc. establishing as a Long-Term Firm Point-to-Point Transmission Customer under the terms of the Alliant Energy Corporate Services, Inc. transmission tariff.

Alliant Energy Corporate Services, Inc. requests an effective date of January 1, 2001, and accordingly, seeks waiver of the Commission's notice requirements. A copy of this filing has been served upon the Illinois Commerce Commission, the Minnesota Public Utilities Commission, the Iowa Department of Commerce, and the Public Service Commission of Wisconsin.

Comment date: April 9, 2001, in accordance with Standard Paragraph E at the end of this notice.

7. American Transmission Company

[Docket No. ER01-1577-000]

Take notice that on March 19, 2001, American Transmission Company LLC (ATCLLC) tendered for filing proposed changes to its Open Access Transmission Tariff to revise its formula rate to implement revise billing and payment provisions. ATCLLC requests an effective date of June 1, 2001.

Comment date: April 9, 2001, in accordance with Standard Paragraph E at the end of this notice.

8. Florida Keys Electric Cooperative Association, Inc.

[Docket No. ER01-1590-000]

Take notice that on March 19, 2001, Florida Keys Electric Cooperative Association, Inc. tendered for filing a revised rate for non-firm transmission service provided to the City Electric System, Key West, Florida in accordance with the terms and conditions of the Long-Term Joint Investment Transmission Agreement between the Parties.

A copy of this filing has been served on CES and the Florida Public Service Commissioner.

Comment date: April 9, 2001, in accordance with Standard Paragraph E at the end of this notice.

9. New England Power Pool

[Docket No. ER01-1401-001]

Take notice that on March 15, 2001, the New England Power Pool (NEPOOL) Participants Committee submitted additional information in order to clarify, correct and expand certain points raised in the filing relating to the implementation of three-part bidding and Net Commitment Period Compensation. The additional information did not change the filing, nor the requested July 1, 2001 effective date.

The NEPOOL Participants Committee states that copies of these materials were sent to the NEPOOL Participants and the New England state governors and regulatory commissions.

Comment date: April 5, 2001, in accordance with Standard Paragraph E at the end of this notice.

10. NEO California Power LLC

[Docket No. ER01-1558-000]

Take notice that on March 15, 2001, NEO California Power LLC, a limited liability corporation organized under the laws of the State of Delaware, filed, under section 205 of the Federal Power Act (FPA), an application requesting that the Commission (1) accept for filing its proposed market-based FERC Rate Schedule No. 1; (2) grant blanket authority to make market-based wholesale sales of capacity and energy under the FERC Rate Schedule No. 1; (3) grant authority to sell ancillary services at market-based rates within the California Independent System Operator Corporation (Cal ISO); and (4) grant such waivers and blanket authorizations as the Commission has granted in the past to other nonfranchised entities with market-based rate authority. NEO California also filed under FPA section 205 Summer Reliability Agreements with the Cal ISO for NEO California's Chowchilla and Red Bluff projects.

Comment date: April 5, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at

http://www.ferc.fed.us/efi/doorbell.htm.

David P. Boergers,
Secretary.

[FR Doc. 01-7848 Filed 3-29-01; 8:45 am]

BILLING CODE 6717-01-U